DEPARTMENT OF HEALTH AND HUMAN SERVICES

Food and Drug Administration

[Docket No. 98D-0969]

Establishment of Resistance and Monitoring Thresholds in Food-Producing Animals; Public Meeting; Amendment of Notice

AGENCY: Food and Drug Administration, HHS.

ACTION: Notice of meeting.

SUMMARY: The Food and Drug Administration (FDA) is announcing an amendment to the notice of a public meeting entitled “Establishment of Resistance and Monitoring Thresholds in Food-Producing Animals.” The meeting was announced in the Federal Register of July 28, 2000 (65 FR 46464). The amendment is being made to reflect changes in the Date and Time and Registration portions and in section II of the document. There are no other changes.

FOR FURTHER INFORMATION CONTACT:

For general inquiries about the meeting and registration contact: Lynda W. Cowatch, Center for Veterinary Medicine (HFV-150), Food and Drug Administration, 7500 Standish Pl., Rockville, MD 20855, 301-827-5281, FAX 301-594-2298.

For technical inquiries contact: Aleta Sindelar, Center for Veterinary Medicine (HFV-1), Food and Drug Administration, 7500 Standish Pl., Rockville, MD 20855, 301-827-0148.

SUPPLEMENTARY INFORMATION: In the Federal Register of July 28, 2000 (65 FR 46464), FDA announced that a public meeting entitled “Establishment of Resistance and Monitoring Thresholds in Food-Producing Animals” would be held on October 10 and 11, 2000. This amendment is being made to reschedule the date and to amend the registration and comments section of the July 28, 2000, notice as follows:

1. On page 46464, beginning in the third column, the Date and Time and Registration portions of the meeting are amended as follows:

Date and Time: The meeting will be held on January 23 and 24, 2001, 8:30 a.m. to 5 p.m. Submit written comments by March 24, 2001.

Registration: Registration is required. There is no registration fee for the meeting. If you registered for the October 10 and 11, 2000, meeting, you must re-register to attend the January 23 and 24, 2001, meeting. Limited space is available, and early registration is encouraged. Logistics for the meeting and the registration form are available on the Internet at http://www.fda.gov/cvm/fda/mappgs/registration.html. Please send the registration form to Lynda W. Cowatch (address above). Additional information about the meeting and the agenda will be available on the Internet (Internet site above) before the meeting.

If you need special accommodations due to a disability, please contact the DoubleTree Hotel at least 7 days in advance, 1-800-222-8733.

2. On page 46465, in the second column, section II is amended as follows:

II. Submission of Comments

Interested persons may submit written comments regarding this meeting until March 24, 2001. Submit written comments to the Dockets Management Branch (address above), or fax to 301-827-6870. Comments should be identified with the docket number found in brackets in the heading of this document.

Dated: September 19, 2000.
William K. Hubbard,
Senior Associate Commissioner for Policy, Planning, and Legislation.

[FR Doc. 00-24631 Filed 9-25-00; 8:45 am]

BILLING CODE 4160-01-F